SECURITIES AND EXCHANGE COMMISSION

[Release No. 34-43305; File No. SR-Amex-00-36]

Self-Regulatory Organizations; Order Approving a Proposed Rule Change by the American Stock Exchange LLC Creating an Options Principal Membership Seat Upgrade Program

September 19, 2000.

I. Introduction

On June 30, 2000, the American Stock Exchange LLC (“Exchange” or “Amex”), submitted to the Securities and Exchange Commission (“Commission”), pursuant to Section 19(b)(1) of the Securities Exchange Act of 1934 (“Act”) ¹ and Rule 19b-4 thereunder,² a proposed rule change creating an options principal membership seat upgrade program. The proposed rule change was published for comment in the Federal Register on August 7, 2000.³ The Commission received no comments on the proposal. This order approves the proposal.

¹ 15 U.S.C. 78s(b)(1).

² 17 CFR 240.19b-4.

³ Securities Exchange Act Release No. 42803 (July 31, 2000), 65 FR 48262.

II. Description of the Proposal

The Exchange believes that the recent increase in the number of securities listed on the Exchange, especially options and Exchange-traded funds, has led to a greater demand for specialists and brokers to handle the increased volume. Specialists and brokers are required to be regular members of the Exchange. To accommodate the growing need for more specialists and brokers, the Exchange has proposed a voluntary Options Principal Membership (“OPM”) Seat Upgrade Program (“Program”), with the potential for upgrading 203 options principal memberships into regular memberships.

The one-time fee to upgrade an OPM membership to a regular membership under the proposed Program will be $30,000 or $36,000, depending on whether the OPM owner elects to participate in the Program within 120 days of the effective date of the Program.⁴

⁴ OPM owners that elect to upgrade to a regular membership within 240 days would be entitled to pay on a monthly basis for 12 months. Program participants who are delinquent in their installment payments by more than sixty days would forfeit all payments made to date and their seats would revert to OPM status. After 240 days from Program effectiveness, an OPM owner would be required to pay a lump sum payment of $36,000 at the time of election.

The Program would be in effect for 18 months. At the end of the 18 month period, the Program would terminate unless the Exchange elects to continue it.⁵ Fund proceeds, less administrative costs to the Exchange, would be distributed equally to regular seat owners of record at the time of distribution (excluding regular seat owners who upgraded their OPM seats). Interest on fund deposits would accrue to the regular members.

⁵ At that time, the Exchange could consider changing the terms of the Program, including raising the cost of upgrading an OPM seat. The Commission notes and the Exchange acknowledges that it would be required to file a proposed rule change with the Commission pursuant to Section 19(b) of the Act if it decides to extend or make any changes to the Program. Telephone call between Ivonne Lugo, Assistant General Counsel, Amex, and Sonia Patton, Attorney, Division of Market Regulation (“Division”), Commission, on July 13, 2000.

III. Discussion

The Commission finds that the proposed rule change is consistent with the Act and the rules and regulations under the Act applicable to a national securities exchange and, in particular, the requirements of Section 6(b) of the Act.⁶ Specifically, the Commission finds that the proposed rule change is consistent with Section 6(b)(5),⁷ in that it is designed to facilitate securities transactions and to remove impediments to and perfect the mechanism of a free and open market.⁸ The Commission believes that the proposed rule change will enable the Exchange to respond to the growing demand for more specialists and brokers to handle increased volume on the Exchange, which should help to facilitate securities transactions and remove impediments to a free and open market. In addition, the Commission believes the Program may help to enhance the depth and liquidity of the Amex market by bringing additional capital and market participants to the trading floor. Finally, the Commission believes that the Program should assist public customers in getting better executions of their orders by providing them with additional firms through which orders to the Amex can be routed.

⁶ 15 U.S.C. 78f(b).

⁷ 15 U.S.C. 78f(b)(5).

⁸ In approving this rule change, the Commission has considered the proposal's impact on efficiency, competition, and capital formation. 15 U.S.C. 78c(f).

IV. Conclusion

It is therefore ordered, pursuant to Section 19(b)(2) of the Act,⁹ that the proposed rule change (SR-Amex-00-36) is approved.

⁹ 15 U.S.C. 78s(b)(2).

For the Commission, by the Division of Market Regulation, pursuant to delegated authority.¹⁰
¹⁰ 17 CFR 200.30-3(a)(12).
Margaret H. McFarland,
Deputy Secretary.

[FR Doc. 00-24733 Filed 9-26-00; 8:45 am]

BILLING CODE 8010-01-M